DEPARTMENT OF COMMERCE

National Oceanic and Atmospheric Administration

[I.D. 081001A]

Endangered Species; Permits

AGENCY: National Marine Fisheries Service (NMFS), National Oceanic and Atmospheric Administration (NOAA), Commerce.

ACTION: Issuance of permit #1324 and modification #2 to permit 1201.

SUMMARY: Notice is hereby given of the following actions regarding permits for takes of endangered and threatened species for the purposes of scientific research and/or enhancement under the Endangered Species Act (ESA): NMFS has issued permit 1324 to Dr. Nancy Thompson, of NMFS-Southeast Fisheries Science Center (1324) and modification #2 to permit 1201 to Dr. Thane Wibbels, of University of Alabama at Birmingham.

ADDRESSES: The permits, applications and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea Turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Permits and Modified Permits Issued

Permit #1324

Notice was published on June 4, 2001 (66 FR 29934) that Dr. Nancy Thompson, of Southeast Fisheries Science Center applied for a scientific research permit (1324). The applicant requested a two-year permit that would authorize the take of threatened and endangered species of sea turtles in the northeast distant statistical sampling area (NED) for the U.S. longline fishery. The purpose of the research is to develop and test methods to reduce bycatch of research that occurs incidental to commercial, pelagic longline fishing. The researchers propose to work cooperatively with U.S. pelagic longline fishermen in the NED area to conduct this fishery-dependent testing. The fishery dependent use of commercial fishing boats for this research is necessary because (1) a large level of fishing effort is necessary for the statistical power to complete this testing and fishery independent work would be cost-prohibitive and (2) testing should be conducted aboard a mix of representative platforms so that the testing results are clearly applicable to the fleets that would ultimately adopt bycatch reduction measures through this research. Permit 1324 was issued on August 9, 2001, authorizing take of listed species. Permit 1324 expires December 31, 2002.

Permit #1201

The requestor currently possesses a two-year scientific research permit to take up to 50 green (Chelonia mydas), 100 Kemp's ridley (Lepidochelys kempii) and 100 loggerhead (Caretta caretta) turtles annually in large mesh tangle nets. The purpose of the research is to evaluate the abundance, movements, and location of sea turtles in the estuaries of Alabama, and to potentially identify specific foraging areas. The presence of juvenile sea turtles in estuaries represents a potential conflict for fisheries and coastal development. However, there is little information about this issue for the estuaries of Alabama. The proposed research is a prerequisite to determining if the estuaries of Alabama represent a developmental habitat for sea turtles, and will benefit the species by providing information critical to developing a prudent management strategy which protects sea turtles while sustaining the productivity of the fisheries.

For modification #2, the applicant requests authorization to use two satellite transmitters in lieu of two previously authorized radio transmitters. Modification #2 to Permit 1201 was issued on August 6, 2001, authorizing take of listed species. Permit 1201 expires February 28, 2003.

Dated: August 10, 2001.
Therese Conant,
Acting Chief, Endangered Species Division, Office of Protected Resources, National Marine Fisheries Service.

[FR Doc. 01-20649 Filed 8-15-01; 8:45 am]

BILLING CODE 3510-22-S